DEPARTMENT OF DEFENSE

Department of the Air Force

[Docket ID USAF-2009-0004]

Privacy Act of 1974; System of Records

AGENCY: Department of the Air Force, DoD.

ACTION: Notice to amend a system of records.

SUMMARY: The Department of Air Force proposes to amend a system of records to its inventory of record systems subject to the Privacy Act of 1974 (5 U.S.C. 552a), as amended.

DATES: The changes will be effective on February 23, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-6488.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: January 13, 2009.
Morgan E. Frazier,
Alternate OSD Federal Register Liaison Officer, Department of Defense.

F036 AF PC O

System Name:

General Officer Personnel Data System (June 11, 1997, 62 FR 31793).

Changes

* * * * *

System Location:

Delete entry and replace with “Headquarters, United States Air Force, 1040 Air Force Pentagon, Washington, DC 20330-1040, and Headquarters Air Force Personnel Center, 550 C Street W, Randolph Air Force Base, TX 78150-4703.”

* * * * *

Categories of records in the system:

Delete entry and replace with “Individual's full name, Social Security Number (SSN), date of birth, active duty grade, mailing address and promotion board data; Career Brief data/cards; officer military record; photographs; biographies; retirement letters; dependent data; education data; promotion orders; assignment orders; demotion data; frocking letters; case studies; language data; effectiveness reports and promotion recommendations.”

Authority for maintenance of the system:

Delete entry and replace with “10 U.S.C. 8013, Secretary of the Air Force; 10 U.S.C. 805, The Air Staff and Air Force Instruction 36-2406, Officer and Enlisted Evaluation System, Chapter 7, General Officer Evaluations and E.O. 9397 (SSN).”

* * * * *

Storage:

Delete entry and replace with “Maintained in visible file binders/cabinets and electronic media storage.”

* * * * *

System Managers and Address:

Delete entry and replace with “Director, Headquarters Air Force Personnel Center, Officer Promotions, Appointments & Selection Continuation Branch, (HQ AFPC/DPSO), 550 C Street West, Randolph Air Force Base, TX 78150-4713.”

Notification Procedures:

Delete entry and replace with “Individuals seeking to determine whether information on themselves is contained in this system should address written requests to Headquarters, United States Air Force, Deputy Chief of Staff/Personnel, Washington, DC 20330-5060.

Written request should contain full name, Social Security Number, date of birth, active duty grade and complete mailing address with notary certified signature.”

Records access Procedures:

Delete entry and replace with “Individuals seeking to determine whether information on them is contained in this system should address written inquiries to Headquarters, United States Air Force, Deputy Chief of Staff/Personnel, Washington, DC 20330-5060.

Written request should contain full name, date of birth, Social Security Number, active duty grade and complete mailing address with notary certified signature.”

* * * * *

Contesting record procedures:

Delete entry and replace with “The Air Force rules for accessing records, and for contesting contents and appealing initial agency determinations are published in Air Force Instruction 33-332, Privacy Act Program; 32 CFR part 806b; or may be obtained from the system manager.”

* * * * *

F036 AF PC O

System name:

General Officer Personnel Data System.

System location:

Headquarters, United States Air Force, 1040 Air Force Pentagon, Washington, DC 20330-1040, and Headquarters Air Force Personnel Center, 550 C Street W, Randolph Air Force Base, TX 78150-4703.

Categories of individuals covered by the system:

Retired, Active Duty, and Active Status Reserve of the Air Force General Officers.

Categories of records in the system:

Individual's full name, Social Security Number (SSN), date of birth, active duty grade, mailing address and promotion board data; Career Brief data/cards; officer military record; photographs; biographies; retirement letters; dependent data; education data; promotion orders; assignment orders; demotion data; frocking letters; case studies; language data; effectiveness reports and promotion recommendations.

Authority for maintenance of the system:

10 U.S.C. 8013, Secretary of the Air Force; 10 U.S.C. 805, The Air Staff and Air Force Instruction 36-2406, Officer and Enlisted Evaluation System, Chapter 7, General Officer Evaluations and E.O. 9397 (SSN).

Purpose(s):

To record active duty service and performance data about general officers for use in personnel management decisions and officer effectiveness, to include assignments, promotions and retirements.

To provide source data for preparing or compiling personnel management data to include career profiles, seniority and retirement lists, memorandums for record concerning actions taken on general officers and statistical analyses.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Non-exempt records from this system may be disclosed to other federal agencies in anticipation of an individual's assignment or upon actual assignment to that agency, to the extent that the information is relevant and necessary to the agency's decision on the matter.

The ‘Blanket Routine Uses’ published at the beginning of the Air Force's compilation of systems of records notices apply to this system.

Policies and practices for storing, retrieving, accessing, retaining, and disposing of records in the system:

Storage:

Maintained in visible file binders/cabinets and electronic media storage.

Retrievability:

Records are retrieved by last name and/or grade.

Safeguards:

Access to these records is given only to the Chief of Staff, Deputy Chief of Staff/Personnel, Assistant for General Officer Matters, Chief of Air Force Reserve, Chief National Guard, and other persons responsible for servicing or reviewing the record system in performance of their official duties, who are properly screened and cleared for need-to-know.

Retention and disposal:

Retired General Officer records are maintained indefinitely; retired Lieutenant General, Major General, and Brigadier General Officer records are retained for 3 years, then reviewed to determine if there are any materials of historical value which warrant indefinite retention. If not, records are destroyed by tearing into pieces, shredding, pulping or macerating. Computer records are destroyed by degaussing or overwriting.

System manager(s) and address:

Director, Headquarters Air Force Personnel Center, Officer Promotions, Appointments & Selection Continuation Branch, (HQ AFPC/DPSO), 550 C Street West, Randolph Air Force Base, TX 78150-4713.

Notification Procedures:

Individuals seeking to determine whether information on themselves is contained in this system should address written requests to Headquarters, United States Air Force, Deputy Chief of Staff/Personnel, Washington, DC 20330-5060.

Written request should contain full name, Social Security Number, date of birth, active duty grade and complete mailing address with notary certified signature.

Records access Procedures:

Individuals seeking to determine whether information on them is contained in this system should address written inquiries to Headquarters, United States Air Force, Deputy Chief of Staff/Personnel, Washington, DC 20330-5060.

Written request should contain full name, date of birth, Social Security Number, active duty grade and complete mailing address with notary certified signature.

Contesting record procedures:

The Air Force rules for accessing records, and for contesting contents and appealing initial agency determinations are published in Air Force Instruction 33-332, Privacy Act Program; 32 CFR part 806b; or may be obtained from the system manager.

Record source categories:

Personnel data base; member and Inspector General's investigations.

Exemptions claimed for the system:

Air Force General Officer Promotion and Effectiveness Reports with close out dates on or before January 31, 1991, may be exempt under the provisions of 5 U.S.C. 552a(k)(7) from subsections of 5 U.S.C. 552a(c)(3); (d); (e)(4)(H); and (f), as applicable, but only to the extent that disclosure would reveal the identity of a confidential source. For additional information contact the system manager.

An exemption rule has been promulgated in accordance with the requirements of 5 U.S.C. 553(b)(1), (2), and (3), (c) and (e) and published in the 32 CFR part 806b. For further information contact the system manager.

[FR Doc. E9-1235 Filed 1-21-09; 8:45 am]

BILLING CODE 5001-06-P